DEPARTMENT OF THE INTERIOR

Fish and Wildlife Service

[FWS-R6-ES-2013-N201; FF06E23000-134-FXES11120600000]

Endangered and Threatened Wildlife and Plants; Permits; Low-Effect Habitat Conservation Plan for the Utah Prairie Dog in Iron County, Utah

AGENCY: Fish and Wildlife Service, Interior.

ACTION: Notice of availability; request for comments.

SUMMARY: We, the U.S. Fish and Wildlife Service (Service), received a permit application from the Iron County Commission and are announcing the availability of a Draft Low-effect Habitat Conservation Plan for the Utah prairie dog in Iron County, Utah, for review and comment by the public and Federal, Tribal, State, and local governments. We request comment on the draft low-effect HCP.

DATES: Written comments must be submitted by October 4, 2013.

ADDRESSES: Send written comments by U.S. mail to Laura Romin, Deputy Field Supervisor, Utah Ecological Services Field Office, U.S. Fish and Wildlife Service, 2369 W Orton Circle, Suite 50, West Valley City, UT 84119, or via email to utahfieldoffice_esa@fws.gov. You also may send comments by facsimile to 801-975-3331. The draft low-effect HCP is available on our Mountain-Prairie Region Ecological Services Web site at http://www.fws.gov/utahfieldoffice/LatestNews.html. You also may review a copy of this document during regular business hours at the Utah Ecological Services Field Office (see address above). If you do not have access to the Web site or cannot visit our office, you may request copies by telephone at 801-975-3330 ext. 142 or by letter to the Utah Field Office.

FOR FURTHER INFORMATION CONTACT: Laura Romin, 801-975-3330, ext. 142; laura_romin@fws.gov.

SUPPLEMENTARY INFORMATION: We announce availability for review and comment of the Draft Low-effect Habitat Conservation Plan for the Utah prairie dog in Iron County, Utah. The Iron County Commission has prepared a draft low-effect habitat conservation plan (HCP) for residential, commercial, and industrial developments in Iron County, Utah, that may result in incidental take of the federally threatened Utah prairie dog. The intent of this low-effect HCP is to serve as an interim mechanism to authorize incidental take anticipated from development in the short term while a more comprehensive long-term or range-wide habitat conservation plan is prepared for the species. We request public comment on the draft low-effect HCP.

Section 9 of the Endangered Species Act (ESA) (16 U.S.C. 1538) and its implementing regulations prohibit take of species listed as endangered or threatened. The definition of take under the ESA includes to “harass, harm, pursue, hunt, shoot, wound, kill, trap, capture, or collect listed species or to attempt to engage in such conduct” (16 U.S.C. 1532(19)). Section 10 of the ESA (16 U.S.C. 1539) establishes a program whereby persons seeking to pursue activities that are otherwise legal, but could result in take of federally protected species, may receive an incidental take permit (ITP). Applicants for ITPs must submit a HCP that meets the section 10 permit issuance criteria. “Low-effect” incidental take permits are those permits that, despite their authorization of some small level of incidental take, individually and cumulatively have a minor or negligible effect on the species covered in the HCP.

Background

In 1998, we issued an incidental take permit to Iron County (County) under the Iron County HCP for take of Utah prairie dogs from development activities. In the meantime, we have been working with all counties within the range of the species to develop a comprehensive rangewide HCP that would contribute to recovery of the species. The Iron County commissioners are concerned that projected increases in economic development in the county during the next couple of years may result in exceeding the amount of take authorized under the 1998 Iron County HCP.

As a bridge to cover additional take anticipated before a range-wide or long-term plan can be completed, Iron County has submitted a draft low-effect HCP that would authorize the take of no more than 600 acres (243 hectares) of occupied Utah prairie dog habitat over a maximum 3-year period. The take would be distributed into two zones (a green zone, which primarily encompasses parcels within already developed areas of the cities, and a red zone, which is on the outskirts of the developing communities). The low-effect HCP's minimization and mitigation measures in the green zone and, for small, low-quality colonies, in the red zone would essentially mimic those of the 1998 Iron County HCP. Within the red zone, large colonies and medium- or high-quality Utah prairie dog habitats would be avoided under this low-effect HCP, but could be mitigated through the 1998 Iron County HCP and the use of conservation banks. Under this low-effect HCP, developers would apply to the County for their individual take permits or letters of authorization.

Our Preliminary Determination

We have made a preliminary determination that the HCP qualifies as a “low-effect” habitat conservation plan as defined by our Habitat Conservation Planning Handbook (November 1996).

We base our determination on the following information:

(1) The size and scope of the incidental take of Utah prairie dogs is relatively small, and limited to maximum of 600 ac (243 ha) of Utah prairie dog occupied habitats over three years;

(2) The total amount of take amounts to only 3.6 percent of the total mapped Utah prairie dog habitat in the West Desert Recovery Unit; and

(3) Most of the take is limited to already developed areas or those areas projected for development in the near future. These areas do not serve to support current or future metapopulations and objectives for recovery of the species in the wild.

Overall we conclude that implementation of the plan would result in overall minor or negligible effects on the Utah prairie dog and its habitats. We may revise this preliminary determination based on public comments submitted in response to this notice.

Public Availability of Comments

Before including your address, phone number, email address, or other personal identifying information in your comment, you should be aware that your entire comment—including your personal identifying information—may be made publicly available at any time. While you can ask us in your comment to withhold your personal identifying information from public review, we cannot guarantee that we will be able to do so.

Dated: August 28, 2013.
Larry Crist,
Field Supervisor, Utah Ecological Services Field Office.

[FR Doc. 2013-21438 Filed 9-3-13; 8:45 am]

BILLING CODE 4310-55-P